DEPARTMENT OF LABOR

Employment and Training Administration

Comment Request for Information Collection for Unemployment Insurance (UI) Trust Fund Activity Reports, Extension Without Revisions

AGENCY: Employment and Training Administration (ETA), Labor.

ACTION: Notice.

SUMMARY: The Department of Labor (Department), as part of its continuing effort to reduce paperwork and respondent burden, conducts a preclearance consultation program to provide the public and Federal agencies with an opportunity to comment on proposed and/or continuing collections of information in accordance with the Paperwork Reduction Act of 1995 [44 U.S.C. 3506(c)(2)(A)]. This program helps ensure that requested data can be provided in the desired format, reporting burden (time and financial resources) is minimized, collection instruments are clearly understood, and the impact of collection requirements on respondents can be properly assessed.

Currently, ETA is soliciting comments concerning the collection of data about UI Trust Fund Activity Reporting, expiring 10/31/2012.

DATES: Written comments must be submitted to the office listed in the ADDRESSES section below on or before August 21, 2012.

ADDRESSES: Submit written comments to Joe Williams, U.S. Department of Labor, Employment and Training Administration, Office of Workforce Security, 200 Constitution Avenue NW., Frances Perkins Bldg., Room S-4524, Washington, DC 20210, telephone number (202) 693-2928 (this is not a toll-free number) or by email: Williams.joseph@dol.gov. Individuals with hearing or speech impairments may access the telephone number above via TTY by calling the toll-free Federal Information Relay Service at 1-877-889-5627 (TTY/TDD). A copy of the proposed information collection request (ICR) can be obtained by contacting the office listed above.

SUPPLEMENTARY INFORMATION:

I. Background

Section 303(a)(4) of the Social Security Act (SSA) and Section 3304(a)(3) of the Federal Unemployment Tax Act (FUTA) require that all monies received in the unemployment fund of a state be paid immediately to the Secretary of Treasury to the credit of the Unemployment Trust Fund (UTF). This is the “immediate deposit” standard.

Section 303(a)(5) of the SSA and Section 3304(a)(4) of the FUTA require that all monies withdrawn from the UTF be used solely for the payment of unemployment compensation, exclusive of the expenses of administration. This is the “limited withdrawal” standard.

Federal law (Section 303(a)(6) of the SSA) gives the Secretary of Labor the authority to require the reporting of information deemed necessary to assure state compliance with the provisions of the SSA.

Under this authority, the Secretary of Labor requires the following reports to monitor state compliance with the immediate deposit and limited withdrawal standards:

ETA 2112: UI Financial Transactions Summary, Unemployment Fund

ETA 8401: Monthly Analysis of Benefit Payment Account

ETA 8403: Summary of Financial Transactions—Title IX Funds

ETA 8403A: Spending Plans for Special Distributions

ETA 8405: Monthly Analysis of Clearing Account

ETA 8413: Income—Expense Analysis UC Fund, Benefit Payment Account

ETA 8414: Income—Expense Analysis UC Fund, Clearing Account

These reports are submitted to the Office of Unemployment Insurance (OUI) within ETA which uses them to:

• Monitor cash flows into and out of the UTF to determine state compliance with the immediate deposit and limited withdrawal standards.

• Assure proper accounting for unemployment funds, an integral part of preparing the Department's consolidated financial statements required by the Chief Financial Officer Act of 1990. The UTF is the single largest asset and liability on the statements.

• Reconcile the Department's records with the U.S. Treasury records.

• Support UI research and actuarial reports analyzing the solvency of the UTF.

II. Review Focus

The Department seeks renewal of this collection since the reports are essential to the Department's financial statements and program oversight responsibilities. The Department is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submissions of responses.

III. Current Actions

Type of Review: Extension without changes.

Title: Unemployment Insurance (UI) Trust Fund Activities Reports.

OMB Number: 1205-0154.

Affected Public: State Workforce Agencies.

Form(s): ETA 2112, 8401, 8405, 8413, 8414, 8403, 8403A.

Data collection activity | Number of respondents | Frequency | Total responses | Average time per response (in hours) | Burden hours
Reporting of ETA 2112 | 53 | Monthly | 636 | 0.5 | 318
Reporting of ETA 8401 | 53 | Monthly | 636 | 0.5 | 318
Reporting of ETA 8405 | 53 | Monthly | 636 | 0.5 | 318
Reporting of ETA 8413 | 53 | Monthly | 636 | 0.5 | 318
Reporting of ETA 8414 | 53 | Monthly | 636 | 0.5 | 318
Reporting of ETA 8403 | 53 | As Needed | 318 | 0.5 | 159
Reporting of ETA 8403A | 53 | As Needed | 106 | 0.5 | 53
Total |  |  | 3,604 |  | 1,802

Total Annual Burden Cost for Respondents: There are no annualized costs to respondents.

Comments submitted in response to this comment request will be summarized and/or included in the request for OMB approval of the ICR; they will also become a matter of public record.

Dated: Signed in Washington, DC, this 15th day of June, 2012.
Jane Oates,
Assistant Secretary for Employment and Training, Labor.

[FR Doc. 2012-15215 Filed 6-21-12; 8:45 am]

BILLING CODE 4510-FW-P